DEPARTMENT OF EDUCATION

[Docket No.: ED-2015-ICCD-0107]

Agency Information Collection Activities; Comment Request; Grantee Reporting Form—RSA Annual Payback Report

AGENCY: Office of Special Education and Rehabilitative Services (OSERS), Department of Education (ED).

ACTION: Notice.

SUMMARY: In accordance with the Paperwork Reduction Act of 1995 (44 U.S.C. chapter 3501 et seq.), ED is proposing a revision of an existing information collection.

DATES: Interested persons are invited to submit comments on or before November 2, 2015.

ADDRESSES: To access and review all the documents related to the information collection listed in this notice, please use http://wwww.regulations.gov by searching the Docket ID number ED-2015-ICCD-0107. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E115, Washington, DC 20202-4537.

FOR FURTHER INFORMATION CONTACT: For specific questions related to collection activities, please contact Rose Ann Ashby, (202) 245-7258.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Grantee Reporting Form—RSA Annual Payback Report.

OMB Control Number: 1820-0617.

Type of Review: A revision of an existing information collection.

Respondents/Affected Public: Private Sector, State, Local and Tribal Governments.

Total Estimated Number of Annual Responses: 350.

Total Estimated Number of Annual Burden Hours: 400.

Abstract: Under section 302 of the Rehabilitation Act of 1973, as amended by the Workforce Innovation and Opportunity Act (WIOA), the Rehabilitation Services Administration (RSA) provides Long-Term Training grants to academic institutions to support scholarship assistance to students. Students who receive scholarships under this program are required to work within the public rehabilitation program, such as with a state vocational rehabilitation agency, or an agency or organization that has a service arrangement with a state vocational rehabilitation agency. The student is expected to work two years in such settings for every year of full-time scholarship support. The program regulations at 34 CFR 386.33-386.35 and 386.40-386.43 detail the payback provisions and the RSA scholars' requirements to comply with them.

Section 302(b)(2)(C) of the Act requires the academic institutions (i.e., grantees) that administer Long-Term Training grants to track the employment status and location of former scholars supported under their grants in order to ensure that students are meeting the payback requirement. Program regulations at 34 CFR 386.34 require each grantee to establish and maintain a tracking system on current and former RSA scholars for this purpose and to report to the Secretary information on the scholars' progress toward fulfilling their obligation towards payback in qualified employment in fields which include clinical practice, administration, supervision, teaching or research in vocational rehabilitation, supported employment, or independent living rehabilitation of individuals with disabilities, especially individuals with significant disabilities.

The Annual Payback Report form for which RSA is requesting an extension collects data on the status of “current” and “exited” RSA scholars who are/were the recipients of scholarships. In addition to meeting the requirement that all scholars be tracked, the information collected on the form currently in use will continue to provide performance data relevant to the rehabilitation fields and degrees pursued by RSA scholars, as well as the funds owed and the rehabilitation work completed by them.

Dated: August 26, 2015.
Tomakie Washington,
Acting Director, Information Collection Clearance Division, Office of the Chief Privacy Officer, Office of Management.

[FR Doc. 2015-21563 Filed 8-31-15; 8:45 am]

BILLING CODE 4000-01-P